DEPARTMENT OF TRANSPORTATION

Federal Aviation Administration

Notice of Intent To Rule on Application 05-05-C-00-DAY To Impose and Use the Revenue From a Passenger Facility Charge (PFC) at Dayton International Airport, Dayton, OH

AGENCY: Federal Aviation Administration (FAA), DOT.

ACTION: Notice of intent to rule on application.

SUMMARY: The FAA proposes to rule and invites public comment on the application to impose and use the revenue from a PFC at Dayton International Airport under the provisions of the 49 U.S.C. 40117 and part 158 of the Federal Aviation Regulations (14 CFR part 158).

DATES: Comments must be received on or before June 9, 2005.

ADDRESSES: Comments on this application may be mailed or delivered in triplicate to the FAA at the following address: Detroit Airports District Office, 11677 South Wayne Road, Suite 107, Romulus, Michigan 48174.

In addition, one copy of any comments submitted to the FAA must be mailed or delivered to Mr. Eugene B. Conrad Jr., Director of Aviation of the City of Dayton at the following address: 3600 Terminal Drive, Suite 300, Vandalia, Ohio 45377-3313.

Air carriers and foreign air carriers may submit copies of written comments previously provided to the City of Dayton under section 158.23 of part 158.

FOR FURTHER INFORMATION CONTACT: Mr. Jason Watt, Program Manager, Detroit Airport District Office, 11677 South Wayne Road, Suite 107, Romulus, Michigan 48174, (734) 229-2906. The application may be reviewed in person at this same location.

SUPPLEMENTARY INFORMATION: The FAA proposes to rule and invites public comment on the application to impose and use the revenue from a PFC at Dayton International Airport under the provisions of the 49 U.S.C. 40117 and part 158 of the Federal Aviation Regulations (14 CFR part 158).

On April 26, 2005, the FAA determined that the Application to impose and use the revenue from a PFC submitted by the City of Dayton was substantially complete within the requirements of section 158.25 of part 158. The FAA will approve or disapprove the application, in whole or in part, no later than July 26, 2005.

The following is a brief overview of the application.

Proposed charge effective date: December 1, 2013.

Proposed charge expiration date: February 1, 2018.

Level of the proposed PFC: $4.50.

Total estimated PFC revenue: $33,577,115.

Brief description of proposed projects: Terminal Environment Restoration and In-Line Baggage Make-Up Facility.

Class or classes of air carriers, which the public agency has requested not be required to collect PFCs: Air taxi/commercial operators filing FAA Form 1800-31.

Any person may inspect the application in person at the FAA office listed above under FOR FURTHER INFORMATION CONTACT. The application may be reviewed in person at this same location.

In addition, any person may, upon request, inspect the application, notice and other documents germane to the application in person at the City of Dayton.

Issued in Des Plaines, Illinois on April 29, 2005.
Elliott Black,
Manager, Planning and Programming Branch. Airports Division, Great Lakes Region.

[FR Doc. 05-9304 Filed 5-9-05; 8:45 am]

BILLING CODE 4910-13-M